DEPARTMENT OF TRANSPORTATION

Federal Aviation Administration

14 CFR Part 25

[Docket No. FAA-2014-0366; Special Conditions No. 25-564-SC]

Special Conditions: Embraer S.A.; Model EMB-550 Airplane; Flight Envelope Protection: High Incidence Protection System

Correction

In rule document 2014-20893 appearing on pages 52165 through 52169 in the issue of Wednesday, September 3, 2014, make the following corrections:

1. On page 52169, in the first column, the 27th line from the bottom should read: “In lieu of § 25.107(c) and (g) we propose the following requirements, with additional sections (c') and (g'):”

2. On page 52169, in the first column, the 11th line from the bottom should read: “(c') In icing conditions with the “takeoff ice” accretion defined in part 25, appendix C, V2 may not be less than—”

3. On page 52169, in the second column, the eighth line from the top should read: “(g') In icing conditions with the “final takeoff ice” accretion defined in part 25, appendix C, VFTO, may not be less than—”

[FR Doc. C1-2014-20893 Filed 10-1-14; 8:45 am]

BILLING CODE 1505-01-P